DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment Standards Administration is soliciting comments concerning the proposed collection: Office of Federal Contract Compliance Programs Recordkeeping and Reporting Requirements, Construction. A copy of the proposed information collection request can be obtained by contacting the office listed below in the addresses section of this notice.

DATES: Written comments must be submitted to the office listed in the addresses section below on or before August 15, 2005.

ADDRESSES: Ms. Hazel M. Bell, U.S. Department of Labor, 200 Constitution Ave., NW., Room S-3201, Washington, DC 20210, telephone (202) 693-0418, fax (202) 693-1451, e-mail Bell.Hazel@dol.gov. Please use only one method of transmission for comments (mail, fax, or e-mail).

SUPPLEMENTARY INFORMATION

I. Background

The Office of Federal Contract Compliance Programs (OFCCP) is responsible for the administration of three equal opportunity programs, which prohibit employment discrimination and require affirmative action by Federal contractors and subcontractors. The laws administered by the OFCCP are Executive Order 11246, as amended, section 503 of the Rehabilitation Act, as amended, and the Vietnam Era Veterans' Readjustment Assistance Act of 1974, as amended (VEVRAA), 38 U.S.C. 4212. OFCCP has promulgated regulations implementing these laws, which are found at Title 41 of the Code of Federal Regulations, Chapter 60. For purposes of this clearance request, the programs have been divided functionally into two categories, construction and supply and service. This information collection request covers the recordkeeping and reporting requirements for the functional aspects of the program involving construction. A separate information collection request covers the recordkeeping and reporting requirements for functional aspects of the program involving supply and service, and is approved under OMB 1215-0072. This information collection is currently approved for use through June 30, 2005.

On December 8, 2003, OFCCP published a Federal Register Notice (FRN) indicating the intent to conduct an internal assessment of the burden hours associated with the construction program. The burden hour results of the internal assessment are included in this FRN, for which OFCCP is seeking public comments. The results of the internal study, along with the public comments, will be incorporated in the final Information Collection Request seeking a three-year approval.

The Department of Labor invites comments on the accuracy of the estimated universe of 178,487 Federal contractor construction firms. OFCCP developed this estimate through a multi-step process. First, OFCCP obtained the total number of construction firms in the United States from statistics compiled by the U.S. Census Bureau in 2001. The census compilation indicated that there were 691,110 construction firms in the United States. Second, OFCCP subtracted from the total 98,837 firms with zero (0) employees. Third, OFCCP deducted from the first three employee size ranges (1 to 4, 5 to 9, and 10 to 19) a total of 146,056 firms, which represents the number of firms engaged in single-family housing construction, leaving 446,217 construction firms. Fourth, because all construction firms are not covered contractors within OFCCP's jurisdiction, OFCCP developed an estimate of the percentage of firms that are covered contractors by examining the percentage of supply and service firms that are covered contractors. Employer Information Report (EEO-1) forms filed annually by many employers provide information on the supply and service universe of Federal contractors. Relying on EEO-1 data, OFCCP found that there were 25,681 supply and service consolidated EEO-1 Reports (multi-establishment employers are required to file consolidated EEO-1 Reports for establishments with 50 or more employees as well as establishments with fewer than 50 employees) filed in FY 2002. This is a reasonable approximation of the total number of supply and service firms submitting consolidated reports in the United States. Of these firms, 10,498 (40.8%) indicated that they were Federal contractors. Based on the proportion of supply and service contractors that self-identified as federal contractors, OFCCP assumed that 40 percent of the U.S. construction firms would hold one or more Federal or federally assisted construction contracts. Accordingly, OFCCP estimated that 40.0% of the 446,217 construction firms, or 178,487 firms, are Federal or federally assisted construction contractors.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The Department of Labor seeks the extension of approval to collect this information in order to carry out its responsibility to enforce the affirmative action and nondiscrimination provisions of the three laws that it administers.

Type of Review: Extension.

Agency: Employment Standards Administration.

Title: OFCCP Recordkeeping and Reporting Requirements, Construction.

OMB Number: 1215-0163.

Affected Public: Business or other for-profit, Not-for-profit institutions.

Total Respondents: 178,487.

Total Annual Responses: 178,487.

Average Time per Response, Recordkeeping: 9 hours.

Average Time per Response, Reporting: 0 hours.

Affirmative Action Program, Initial Development: 32,112 hours.

Affirmative Action Program, Annual Update: 120,487 hours.

Compliance Reviews: 715 hours.

Total Burden Hours, Recordkeeping and Reporting: 1,710,325.

Frequency: Annually.

Total Burden Cost (capital/startup): $59,882.

Total Burden Cost (operating/maintenance): $0.

Comments submitted in response to this notice will be summarized and/or included in the request for Office of Management and Budget approval of the information collection request; they will also become a matter of public record.

Dated: June 8, 2005.
Bruce Bohanon,
Chief, Branch of Management Review and Internal Control, Division of Financial Management, Office of Management, Administration and Planning, Employment Standards Administration.

[FR Doc. 05-11780 Filed 6-14-05; 8:45 am]

BILLING CODE 4510-CM-P